DEPARTMENT OF LABOR

Employment and Training Administration

[TA-W-52,623]

Five Rivers Electronic Innovations, LLC, Greeneville, TN; Amended Certification Regarding Eligibility To Apply for Worker Adjustment Assistance and Negative Determination Regarding Eligibility To Apply for Alternative Trade Adjustment Assistance

In accordance with section 223 of the Trade Act of 1974 (19 U.S.C. 2273) the Department of Labor issued a Certification of Eligibility to Apply for Worker Adjustment Assistance and Negative Determination Regarding Eligibility to Apply for Alternative Trade Adjustment Assistance on October 1, 2003, applicable to workers of Five Rivers Electronic Innovations, LLC, Greeneville, Tennessee. The notice was published in the Federal Register on November 28, 2003 (68 FR 66879).

At the request of the State agency, the Department reviewed the certification for workers of the subject firm. The workers are engaged in the production of color televisions and parts and are not separately identifiable by product line.

New findings show that there was a previous certification, TA-W-38,281, issued on January 24, 2001, for workers of Five Rivers Electronic Innovations, LLC, Greeneville, Tennessee who were engaged in employment related to the production of color televisions and parts. That certification expired January 24, 2003. To avoid an overlap in worker group coverage, the certification is being amended to change the impact date from August 15, 2002, to January 25, 2003, for workers of the subject firm.

The amended notice applicable to TA-W-52,623 is hereby issued as follows:

All workers of Five River Electronic Innovations, LLC, Greeneville, Tennessee, who became totally or partially separated from employment on or after January 25, 2003, through October 1, 2005, are eligible to apply for adjustment assistance under section 223 of the Trade Act of 1974.

I further determine that all workers of Five River Electronic Innovations, LLC, Greeneville, Tennessee are denied eligibility to apply for alternative trade adjustment assistance under section 246 of the Trade Act of 1974.

Signed in Washington, DC this 4th day of February, 2004.
Richard Church,
Certifying Officer, Division of Trade Adjustment Assistance.

[FR Doc. 04-4966 Filed 3-4-04; 8:45 am]

BILLING CODE 4510-30-P